DEPARTMENT OF AGRICULTURE

Submission for OMB Review; Comment Request

May 23, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Equines into the United States.

OMB Control Number: 0579-0324.

Summary of Collection: Under the Animal Health Protection Act (7 U.S.C. 8301 et seq.) the Animal and Plant Health Inspection Service (APHIS) regulates the importation and interstate movement of certain animals and animal products. The law gives the Secretary of Agriculture broad authority to detect, control, or eradicate pests or diseases of livestock or poultry. The regulations in 9 CFR, part 93 prohibit or restrict the importation of certain animals into the United States to prevent the introduction of communicable diseases of livestock and poultry. In accordance with Subpart C of the regulations, the importation of equines into the United States involves a variety of information collection activities.

Need and Use of the Information: The information APHIS collects includes but is not limited to, import permit application; foreign health certificates; photographs for identification; permanent electronic identification compatible reader; application for approval of quarantine or holding facility; written agreement with a State for CEM; plans for medical treatment; certification statements, inspection and other services. Failure to collect this information would diminish APHIS' ability to protect the United States from foreign animal disease incursions. The U.S. equine population would suffer repeated disease outbreaks, and potentially billions of dollars would need to be spent on containment and eradication efforts.

Description of Respondents: Business or other for-profit; State, Local or Tribal Government; Foreign Government.

Number of Respondents: 106.

Frequency of Responses: Reporting: On occasion.

Total Burden Hours: 36,146.

Animal and Plant Health Inspection Service

Title: Voluntary Bovine Johne's Disease Control Program.

OMB Control Number: 0579-0338.

Summary of Collection: The Animal Health Protection Act of 2002 is the primary Federal law governing the protection of animal health. The law gives the Secretary of Agriculture broad authority to detect, control, or eradicate pests or diseases of livestock or poultry. The regulations in Title 9, Chapter 1, Subchapter C of the Code of Federal Regulations, govern the interstate movement of animals to prevent the dissemination of livestock and poultry diseases in the United States. Supplementing the regulations is the Uniform Program Standards for the Voluntary Bovine Johne's Disease Control Program that outlines the minimal national standards of the program providing specifies on administration of the program, program elements and procedures, and laboratory procedures.

Need and Use of the Information: The objective of this program is to provide minimum national standards for the control of Johne's disease. The program consists of three basic elements: (1) Education, to inform producers about the cost of Johne's disease and to provide information about management strategies to prevent, control, and eliminate it; (2) management, to work with producers to establish good management strategies on their farms; and (3) herd testing and classification, to help separate test-positive herds from test-negative herds. APHIS will collect the necessary information from participants using several different forms. Failing to collect this information would greatly hinder the control of Johne's disease and possible lead to increased prevalence.

Description of Respondents: State, Local or Tribal Government; Farms; Business or other for-profit.

Number of Respondents: 9,125.

Frequency of Responses: Reporting: On occasion.

Total Burden Hours: 38,187.

Charlene Parker,
Departmental Information Collection Clearance Officer.

[FR Doc. 2011-13089 Filed 5-25-11; 8:45 am]

BILLING CODE 3410-34-P